DEPARTMENT OF HEALTH AND HUMAN SERVICES

Administration for Children and Families

[CFDA Number: 93.568]

Reallotment of Fiscal Year 2022 Funds for the Low Income Home Energy Program-Final

AGENCY: Office of Community Services, Administration for Children and Families, Department of Health and Human Services.

ACTION: Notice of final issuance.

SUMMARY: The Administration for Children and Families (ACF), Office of Community Service (OCS), Division of Energy Assistance announces that $17,260,985 of funds from the federal fiscal year (FFY) 2022 Low Income Home Energy Assistance Program (LIHEAP) were reallotted to states, territories, tribes, and tribal organizations that received FFY 2023 direct LIHEAP grants.

DATES: This notice became effective on Sep. 29, 2023, which is the date on which ACF awarded these reallotments.

FOR FURTHER INFORMATION CONTACT: Megan Meadows, Director, Division of Energy Assistance, Office of Community Services, 330 C Street SW, 5th Floor; Mail Room 5425; Washington, DC 20201. Telephone: 202-401-1149; email: Megan.Meadows@acf.hhs.gov.

SUPPLEMENTARY INFORMATION: In accordance with section 2607(b)(1) of the Low Income Home Energy Assistance Act (the Act), title XXVI of the Omnibus Budget Reconciliation Act of 1981 (42 U.S.C. 8626(b)(1)), as amended, ACF published a notice in the Federal Register on Sep. 26, 2023, 88 FR 66005, announcing the Secretary's preliminary determination that $21,985,238 of FFY 2022 funds for LIHEAP may be available for reallotment. ACF received one comment. It came from a member of the public who appeared to seek the program's benefits. ACF advised the inquirer of the resources through which to seek information about such benefits. After such publication, ACF reduced this amount to $17,260,985 because of (1) reporting revisions made by grant recipient; and (2) insufficient Payment Management System balances.

These funds became available from the following grant recipients in the following amounts:

Name of grant recipient that returned funds for reallotment | FFY 2022 reallotment amount
Alabama | $2,378,088
Alaska | 1,590,037
Delaware | 199,360
Idaho | 6,505,338
Michigan | 2,087,677
American Samoa | 2,828
Absentee Shawnee Tribe of Indians of Oklahoma | 512
Fort Peck Assiniboine and Sioux Tribes | 60,493
Berry Creek Rancheria | 747
Bishop Paiute Tribe | 13,779
Blackfeet Tribe | 264,815
Catawba Indian Nation | 789
Cherokee Nation | 134,641
Cheyenne and Arapaho Tribes | 4,032
Cocopah Indian Tribe | 3,403
Colorado River Indian Tribes | 6,166
Confederated Tribes of the Colville Indian Reservation | 10,879
Comanche Nation | 26,315
Confederated Tribes of the Grand Ronde Community of Oregon | 28,859
Confederated Tribes of Siletz Indians of Oregon | 8,000
Confederated Tribes of Warm Springs | 11,141
Confederated Salish and Kootenai Tribes | 77,905
Delaware Nation | 275
Eastern Band of Cherokee Indians | 6,466
Eastern Shoshone Tribe | 27,049
Fort Belknap Indian Community | 109,264
Gila River Indian Community | 14,178
Hoh Tribe | 4,404
Hoopa Valley Tribe | 45,051
Inter-Tribal Council of MI, Inc. | 1,363
Jicarilla Apache Nation | 2,153
Kalispel Tribe of Indians | 657
Kaw Nation | 419
Little River Band of Ottawa Indians | 159,939
Lower Elwha Klallam Tribe | 1,928
Makah Tribe | 1,890
Narragansett Indian Tribe | 447
Navajo Nation | 1,153,394
Nooksack Indian Tribe | 18,243
Northern Arapaho Tribe | 8,741
Oglala Sioux Tribe | 831,158
Otoe-Missouria Tribe of Indians | 241
Pawnee Nation of Oklahoma | 5,866
Poarch Band of Creek Indians | 35,069
Pueblo of Jemez | 5,372
Pueblo of Zuni | 28,762
Quapaw Nation | 5,616
Quileute Tribe | 5,009
Quinault Indian Nation | 3,026
Round Valley Indian Tribes | 28,912
Sac and Fox Nation of Oklahoma | 17,639
Seldovia Village Tribe | 11,278
Seneca Nation of Indians | 2,453
South Puget Intertribal Planning Agency | 739
Spirit Lake Nation | 38,342
Standing Rock Sioux Tribe | 396,242
Thlopthlocco Tribal Town | 7,914
Turtle Mountain Band of Chippewa Indians | 67,861
Ute Indian Tribe | 1,672
Confederated Tribes and Bands of the Yakama Nation | 551,163
Yankton Sioux Tribe | 244,986
Total | 17,260,985

The list of grant recipients that were awarded these funds was published in a Dear Colleague Letter (DCL), which is posted to ACF's website at LIHEAP DCL 2023-15 Reallotment of LIHEAP Funds FFY 2022.

Pursuant to the statute cited above, these funds were reallotted on Sep. 29, 2023 to all three types of FFY 2023 LIHEAP grant recipients by distributing them under the formula that Congress set for FFY 2023 funding. The three types of recipients that did not receive funds were (1) those whose allocations would have been less than $25; (2) tribes or tribal organizations that agreed with their co-territorial states to receive set amounts for the entire fiscal year; and (3) states or territories that were held to the additional minimum floor required by the FFY 2023 appropriations act after including the reallotment amount. No sub-recipients of these recipients or other entities may apply for these funds.

The reallotted funds may be used for any purpose authorized under LIHEAP. Grant recipients must add these funds to their total LIHEAP funds payable for FFY 2023 for purposes of calculating statutory caps on administrative costs, carryover, Assurance 16 activities, and weatherization assistance. Grant recipients must also (1) ensure that these funds are included in the amounts that ACF pre-populated on Line 1.1 of their FFY 2023 Carryover and Reallotment Reports; (2) reconcile these funds, to the extent that they received them, with the other sources described in LIHEAP DCL 2023-05 that used the grant number ending in “LIEA” on the associated Federal Financial Report; and (3) record, on their FFY 2023 Household Reports, households that receive benefits at least partly from these funds. State recipients must also ensure that these funds are included in the Grantee Survey sections of their FFY 2023 LIHEAP Performance Data Forms.

OCS recommends that, after receiving them, grant recipients obligate these funds before obligating any other federal LIHEAP funds.

Statutory Authority: 42 U.S.C. 8626(b).

Karen D. Shields,
Senior Grants Policy Specialist, Office of Grants Policy, Office of Administration.

[FR Doc. 2023-26503 Filed 12-1-23; 8:45 am]

BILLING CODE 4184-80-P